DEPARTMENT OF COMMERCE

National Oceanic and Atmospheric Administration

[I.D. 100506F]

New England Fishery Management Council; Public Meeting

AGENCY: National Marine Fisheries Service (NMFS), National Oceanic and Atmospheric Administration (NOAA), Commerce

ACTION: Notice of a public meeting.

SUMMARY: The New England Fishery Management Council (Council) is scheduling a public meeting of its Habitat/Marine Protected Area (MPA)/Ecosystem Committee meeting in October, 2006, to consider actions affecting New England fisheries in the exclusive economic zone (EEZ). Recommendations from this group will be brought to the full Council for formal consideration and action, if appropriate.

DATES: The meeting will be held on Tuesday, October 31, 2006, at 9:30 a.m.

ADDRESSES: The meeting will be held at the Radisson Hotel Plymouth Harbor, 180 Water Street, Plymouth, MA 02360: telephone: (508) 747-4900; fax: (508) 746-5386.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review the plan development team's recommendations for a Great South Channel Habitat Area of Particular Concern (HAPC) alternative and potentially recommend an additional HAPC alternative to the Council for inclusion in the Draft Supplemental Environmental Impact Statement (DSEIS) for the Essential Fish Habitat (EFH) Omnibus Amendment. The committee will also review and approve the non-fishing impacts section of the Amendment for consideration by the Council and review and approve the DSEIS for the EFH Omnibus Amendment for consideration by the Council for public comment. In addition, the committee will receive a briefing on current EFH consultations on non-fishing impact projects in the Northeast. Other topics may be covered at the committee's discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: October 5, 2006.
Tracey L. Thompson,
Acting Director, Office of Sustainable Fisheries, National Marine Fisheries Service.

[FR Doc. E6-16851 Filed 10-11-06; 8:45 am]

BILLING CODE 3510-22-S